DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of November 5, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

Community | Community map repository address
City and County of Honolulu, Hawaii
Docket No.: FEMA-B-1347
City and County of Honolulu | Department of Planning and Permitting, 650 South King Street, Honolulu, HI 96813.
Gibson County, Indiana, and Incorporated Areas
Docket No.: FEMA-B-1315
City of Oakland City | City Hall, 301 South Franklin Street, Oakland City, IN 47660.
City of Princeton | City Hall, 310 West State Street, Princeton, IN 47670.
Town of Fort Branch | Town Hall, 210 West Locust Street, Fort Branch, IN 47648.
Town of Francisco | Town Hall, 203 West Main Street, Francisco, IN 47649.
Town of Hazleton | Town Hall, 101 South Main Street, Hazleton, IN 47640.
Town of Patoka | Town Hall, 110 South Main Street, Patoka, IN 47666.
Unincorporated Areas of Gibson County | Gibson County Annex North, 225 North Hart Street, Princeton, IN 47670.
Posey County, Indiana, and Incorporated Areas
Docket No.: FEMA-B-1315
City of Mount Vernon | Posey County Area Plan Commission, 2nd Floor Coliseum Building, Room 223, 126 East Third Street, Mount Vernon, IN 47620.
Town of Cynthiana | Posey County Area Plan Commission, 2nd Floor Coliseum Building, Room 223, 126 East Third Street, Mount Vernon, IN 47620.
Town of Griffin | Posey County Area Plan Commission, 2nd Floor Coliseum Building, Room 223, 126 East Third Street, Mount Vernon, IN 47620.
Town of New Harmony | Town Hall, 520 Church Street, New Harmony, IN 47631.
Unincorporated Areas of Posey County | Posey County Area Plan Commission, 2nd Floor Coliseum Building, Room 223, 126 East Third Street, Mount Vernon, IN 47620.
Shelby County, Indiana, and Incorporated Areas
Docket No.: FEMA-B-1315
City of Shelbyville | City Hall, Planning Commission, 44 West Washington Street, Shelbyville, IN 46176.
Town of Morristown | Municipal Building, 418 West Main Street, Morristown, IN 46161.
Unincorporated Areas of Shelby County | Shelby County Plan Commission, 25 West Polk Street, Shelbyville, IN 46176.
Queen Anne's County, Maryland, and Incorporated Areas
Docket No.: FEMA-B-1299
Town of Centreville | Town Hall, 101 Lawyer's Row, Centreville, MD 21617.
Town of Church Hill | Town Hall, 324 Main Street, Church Hill, MD 21623.
Town of Queen Anne | Town Clerk's Office, 31922 Flowers Road, Queen Anne, MD 21657.
Town of Queenstown | Town Office, 7013 Main Street, Queenstown, MD 21658.
Unincorporated Areas of Queen Anne's County | Queen Anne's County Department of Public Works, 312 Safety Drive, Centreville, MD 21617.
Lincoln County, New Mexico, and Incorporated Areas
Docket No.: FEMA-B-1309
City of Ruidoso Downs | City Hall, 123 Downs Drive, Ruidoso Downs, NM 88346.
Unincorporated Areas of Lincoln County | Lincoln County Floodplain Manager's Office, 115 Kansas City Road, Ruidoso, NM 88345.
Waukesha County, Wisconsin, and Incorporated Areas
Docket No.: FEMA-B-1342
City of Delafield | City Hall, 500 Genesee Street, Delafield, WI 53018.
City of Oconomowoc | City Hall, 174 East Wisconsin Avenue, Oconomowoc, WI 53066.
Unincorporated Areas of Waukesha County | Waukesha County Administration Center, 515 West Moorland Boulevard, Waukesha, WI 53188.
Village of Chenequa | Village Hall, 31275 West Highway K, Chenequa, WI 53029.
Village of Dousman | Village Hall, 118 South Main Street, Dousman, WI 53118.
Village of Hartland | Village Hall, 210 Cottonwood Avenue, Hartland, WI 53029.
Village of Lac La Belle | Village Hall, 600 Lac La Belle Drive, Lac La Belle, WI 53066.
Village of Merton | Village Hall, N67W28343 Sussex Road, Merton, WI 53056.
Village of Nashotah | Village Hall, N44W32950 Watertown Plank Road, Nashotah, WI 53058.
Village of Oconomowoc Lake | Village Hall, 35328 West Pabst Road, Oconomowoc Lake, WI 53066.
Village of Summit | Village Hall, 2911 North Dousman Road, Oconomowoc, WI 53066.

(Catalog of Federal Domestic Assistance No. 97.022, “Flood Insurance.”)

Dated: September 29, 2014.
Roy E. Wright,
Deputy Associate Administrator for Mitigation, Department of Homeland Security, Federal Emergency Management Agency.

[FR Doc. 2014-25189 Filed 10-21-14; 8:45 am]

BILLING CODE 9110-12-P